SECURITIES AND EXCHANGE COMMISSION

Proposed Collection; Comment Request

Upon Written Request, Copies Available From: Securities and Exchange Commission, Office of FOIA Services, 100 F Street NE, Washington, DC 20549-2736

Extension:

Rule 17g-7, SEC File No. 270-563, OMB Control No. 3235-0656.

** This corrected notice replaces the notice published on May 2, 2018 in the Federal Register Vol. 83, No. 85, page 19370.

Notice is hereby given that pursuant to the Paperwork Reduction Act of 1995 (44 U.S.C. 3501 et seq.), the Securities and Exchange Commission (“Commission”) has submitted to the Office of Management and Budget (“OMB”) a request for approval of extension of the previously approved collection of information provided for in Rule 17g-7 under the Securities Exchange Act of 1934 (15 U.S.C. 78a et seq.).¹

¹ See 17 CFR 240.17g-1 and 17 CFR 249b.300.

Rule 17g-7 contains disclosure requirements for Nationally Recognized Statistical Rating Organizations (“NRSROs”) including certain information to be published when taking a rating action with respect to a credit rating. Currently, there are 10 credit rating agencies registered as NRSROs with the Commission. The Commission estimates that the total burden for respondents to comply with Rule 17g-7 is 695,797 hours.

The Commission may not conduct or sponsor a collection of information unless it displays a currently valid OMB control number. No person shall be subject to any penalty for failing to comply with a collection of information subject to the PRA that does not display a valid Office of Management and Budget (OMB) control number.

Background documentation for this information collection may be viewed at the following website: www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson, Director/Chief Information Officer, Securities and Exchange Commission, c/o Remi Pavlik-Simon, 100 F St. NE, Washington, DC 20549 or send an email to: PRA_Mailbox@sec.gov. Comments must be submitted to OMB within 30 days of this notice.

Dated: May 4, 2018.
Eduardo A. Aleman,
Assistant Secretary.

[FR Doc. 2018-09884 Filed 5-8-18; 8:45 am]

BILLING CODE 8011-01-P